LEGAL SERVICES CORPORATION

Sunshine Act Meeting

DATE AND TIME: The Legal Services Corporation's Board of Directors and its six committees will meet January 28—30, 2016. On Thursday, January 28, the first meeting will commence at 1:00 p.m., Eastern Standard Time (EST), with the meeting thereafter commencing promptly upon adjournment of the immediately preceding meeting. On Friday, January 29, the first meeting will commence at 2:00 p.m., EST, with the next meeting commencing promptly upon adjournment of the immediately preceding meeting. On Saturday, January 30, the first meeting will commence at 9:30 a.m., EST, it will be followed by the closed session meeting of the Board of Directors which will commence promptly upon adjournment of the prior meeting.

LOCATION: The Mills House Wyndham Grand Hotel, 115 Meeting Street, Charleston, South Carolina 29401.

PUBLIC OBSERVATION: Unless otherwise noted herein, the Board and all committee meetings will be open to public observation. Members of the public who are unable to attend in person but wish to listen to the public proceedings may do so by following the telephone call-in directions provided below.

CALL-IN DIRECTIONS FOR OPEN SESSIONS:

• Call toll-free number: 1-866-451-4981;

• When prompted, enter the following numeric pass code: 5907707348-.

• When connected to the call, please immediately “MUTE” your telephone.

• Combined Audit and Finance Committee you may join the meeting online at https://global.gotomeeting.com/join/324589357 or telephonically by dialing 1 (571) 317-3122.

• Online when prompted, enter the following access code: 324-589-357, the Audio Pin will be shown after joining the meeting, for both online and telephonically the meeting ID code: 324-589-357.

• When connected to the call, please immediately “MUTE” your telephone. Members of the public are asked to keep their telephones muted to eliminate background noises. To avoid disrupting the meeting, please refrain from placing the call on hold if doing so will trigger recorded music or other sound. From time to time, the presiding Chair may solicit comments from the public.

Meeting Schedule

Thursday, January 28, 2016 | Time *
1. Operations & Regulations Committee | 1:00 p.m.
2. Delivery of Legal Services Committee
Friday, January 29, 2016
1. Institutional Advancement Committee | 2:00 p.m.
2. Communications Subcommittee of the Institutional Advancement Committee
3. Audit Committee
4. Finance Committee
5. Combined Audit and Finance Committee
6. Governance & Performance Review Committee
Saturday, January 30, 2016
1. Board of Directors | 9:30 a.m.
* Please note that all times in this notice are in Eastern Standard Time.

STATUS OF MEETING: Open, except as noted below.

Board of Directors—Open, except that, upon a vote of the Board of Directors, a portion of the meeting may be closed to the public to hear briefings by management and LSC's Inspector General, and to consider and act on the General Counsel's report on potential and pending litigation involving LSC, and on a list of prospective funders.**

** Any portion of the closed session consisting soley of briefings does not fall within the Sunshine Act's defintion of the term “meeting” and, therfore, the reqiuremeents of the Sunshine Act do not apply to such portionof the closed session. 5 U.S.C. 552b (a)(2) and (b). See also 45 C.F.R. § 1622.2 & 1622.3.

Institutional Advancement Committee—Open, except that, upon a vote of the Board of Directors, the meeting may be closed to the public to consider and act on recommendation of new prospective donors and to receive a briefing on the donor report.**

Audit Committee—Open, except that the meeting may be closed to the public to hear a briefing on the Office of Compliance and Enforcement's active enforcement matters.**

Combined Audit and Finance Committee—Open, except that the meeting may be closed to the public to hear a briefing from the Corporation's Auditor.**

A verbatim written transcript will be made of the closed session of the Board, Institutional Advancement Committee, Audit Committee, and Combined Audit and Finance Committee meetings. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

January 28, 2016

Operations & Regulations Committee

1. Approval of agenda

2. Approval of minutes of the Committee's meeting of October 4, 2015

3. Discussion of Committee's evaluations for 2015 and goals for 2016

4. Update on rulemaking for 45 CFR 1610.7—Transfers of LSC Funds and 45 CFR 1627—Subgrants and Membership Fees or Dues

• Ron Flagg, General Counsel

• Stefanie Davis, Assistant General Counsel

5. Consider and act on authorizing workshops for revisions to 45 CFR part 1630—Cost Standards and the Property Acquisition and Management Manual based on comments received to the Part 1630 Advance Notice of Proposed Rulemaking

• Ron Flagg, General Counsel

• Stefanie Davis, Assistant General Counsel

• Mark Freedman, Senior Associate General Counsel

6. Consider and act on publication of a notice for comments regarding revisions to population data for grants to serve agricultural and migrant workers

• Ron Flagg, General Counsel

• Bristow Hardin, Program Analyst

• Mark Freedman, Senior Associate General Counsel

7. Consider and act on review of Management's report on implementation of the Strategic Plan 2012-2016 as provided by section VI(3) of the Committee Charter

• Jim Sandman, President

8. Other public comment

9. Consider and act on other business

10. Consider and act on adjournment of meeting

January 28, 2016

Delivery of Legal Services Committee

1. Approval of agenda

2. Approval of minutes of the Committee's meeting on October 5, 2015

3. Discussion of Committee's evaluations for 2015 and the Committee's goals for 2016

4. Review of LSC management proposal to review and revise Performance Criteria

• Lynn Jennings, Vice President for Grants Management

5. Panel presentation and Committee discussion on best practices for effective intake

• Joan Kleinberg, Manager of CLEAR (Coordinated Legal Education, Advice and Referral), Northwest Justice Project

• Frank Tenuta, Managing Attorney, Iowa Legal Aid

• Beverly Allen, Managing Attorney, Land of Lincoln Legal Assistance Foundation

• Adrienne Worthy, Executive Director, Legal Aid of West Virginia

• Ronke Hughes, Program Counsel, Office of Program Performance

6. Public comment

7. Consider and act on other business

8. Consider and act on motion to adjourn the meeting

January 29, 2016

Institutional Advancement Committee

Open Session

1. Approval of agenda

2. Approval of minutes of the Committee's meeting of October 4, 2015

3. Discussion of Committee's evaluations for 2015 and the Committee's goals of 2016

4. Update on development activities

5. Update on Campaign for Justice and Web site

6. Consider and act on Minnesota Charitable Organization Annual Report Form, Resolution 2016-XXX

7. Public Comment

8. Consider and act on other business

9. Consider and act on motion to adjourn the open session meeting and proceed to a closed session

Closed Session

1. Approval of minutes of the Committee's Closed Session meeting of October 4, 2015

2. Donor report

3. Consider and act on prospective donors

4. Consider and act on motion to adjourn the closed session meeting

Communications Subcommittee of the Institutional Advancement Committee

Open Session

1. Approval of agenda

2. Approval of minutes of the Subcommittee's meeting of October 4, 2015

3. Discussion of Subcommittee's evaluations for 2015 and the Subcommittee's goals for 2016

4. Communications analytics update

5. Discussion of brochure for young people

6. Public comment

7. Consider and act on other business

8. Consider and act on motion to adjourn the meeting

January 29, 2016

Audit Committee

Open Session

1. Approval of agenda

2. Approval of minutes of the Committee's Open Session meeting on October 4, 2015

3. Committee review of charter responsibilities and development of work plan

4. Briefing of Office of Inspector General

• Jeffrey Schanz, Inspector General

5. Discussion of Committee's evaluations for 2015 and the Committee's Goals for 2016

6. Management update regarding risk management

• Ron Flagg, General Counsel

7. Briefing about referrals by the Office of Inspector General to the Office of Compliance and Enforcement including matters from the annual Independent Public Accountants' audits of grantees

• Jeffrey Schanz, Inspector General

• John Seeba, Assistant IG for Audits

• Lora Rath, Director of Compliance and Enforcement

8. Briefing about LSC's oversight of grantees' services to groups

9. Briefing about 403(b) Thrift Plan

10. Public comment

11. Consider and act on other business

12. Consider and act on motion to adjourn the open session meeting and proceed to a closed session

Closed Session

13. Approval of minutes of the Committee's Closed Session meeting of October 4, 2015

14. Briefing by the Office of Compliance and Enforcement on active enforcement matter(s) and follow-up to open investigation referrals from the Office of Inspector General

• Lora Rath, Director of Compliance and Enforcement

15. Consider and act on adjournment of meeting

January 29, 2016

Finance Committee

1. Approval of agenda

2. Approval of minutes of the Committee's Open Session meeting on October 4, 2015

3. Approval of minutes of the Committee's Open Session telephonic meeting on October 19, 2015

4. Presentation of LSC's Financial Report for the first two months of FY 2016

• David Richardson, Treasurer/Comptroller

5. Discussion of LSC's FY 2016 appropriations

• Carol Bergman, Director of Government Relations & Public Affairs

6. Consider and act on LSC's Consolidated Operating Budget for FY 2016, Resolution 2016-XXX

• David Richardson, Treasurer/Comptroller

7. Discussion of LSC's FY 2017 appropriations request

• Carol Bergman, Director of Government Relations & Public Affairs

8. Discussion of Committee's evaluation for 2015 and the Committee's goals of 2016

• Carol Bergman, Director of Government Relations & Public Affairs

9. Report on the Selection of Accounts and Depositories for LSC Funds

• David Richardson, Treasurer/Comptroller

10. Public comment

11. Consider and act on other business

12. Consider and act on adjournment of meeting

January 29, 2016

Combined Audit & Finance Committee

Open Session

1. Approval of agenda

2. Presentation of the FY 2015 Annual Financial Audit

• John Seeba, Assistant Inspector General for Audits

• Eric Strauss, and David Karakashian, WithumSmith+Brown

3. Consider and act on acceptance of Annual Financial Audit Management Letter for FY 2015, Resolution 2016-XXX

4. Presentation of Financial Report for FY 2015

5. Review of LSC's Form 990 for FY 2015

6. Public comment

7. Consider and act on other business

8. Consider and act on motion to adjourn the open session meeting and proceed to a closed session

Closed Session

9. Communication by Corporate Auditor with those charged with governance under Statement on Auditing Standard 114

10. Consider and act on motion to adjourn the meeting

January 29, 2016

Governance and Performance Review Committee

1. Approval of agenda

2. Approval of minutes of the Committee's Open Session meeting on October 5, 2015

3. Discussion of Board and Committee evaluations Review Committee Charter

a. Staff Report on 2015 Board and Committee Evaluations

b. Discussion of Governance and Performance Committee evaluations and the Committee's goals for 2016

• Carol Bergman, Director of Government Relations & Public Affairs

4. Discussion of President's evaluation

5. Discussion of the Inspector General's FY 2015 activities

6. Update on resources for Board and Board Committee succession planning

• Ron Flagg, Vice President & General Counsel

7. Report on foundation grants and LSC's research agenda

• Jim Sandman, President

8. Consider and act on other business

9. Public comment

10. Consider and act on adjournment of meeting

January 30, 2016

Board of Directors

Open Session

1. Pledge of Allegiance

2. Approval of agenda

3. Approval of minutes of the Board's Open Session meeting of October 6, 2015

4. Approval of minutes of the Board's Open Session telephonic meeting of October 19, 2015

5. Approval of minutes of the Board's Open Session telephonic meeting of November 17, 2015

6. Consider and act on nomination for the Chairman of the Board Directors

7. Consider and act on nominations for the Vice Chairman of the Board of Directors

8. Chairman's Report

9. Members' Report

10. President's Report

11. Inspector General's Report

12. Consider and act on the report of the Finance Committee

13. Consider and act on the report of the Audit Committee

14. Consider and act on the Combined Audit and Finance Committee

15. Consider and act on the report of the Operations and Regulations Committee

16. Consider and act on the report of the Governance and Performance Review Committee

17. Consider and act on the report of the Institutional Advancement Committee

18. Consider and act on the report of the Delivery of Legal Services Committee

19. Consider and act on the process for updating LSC 2012-2016 Strategic Plan

20. Report on implementation of recommendations of the Pro Bono Task Force Report and the Pro Bono Innovation Fund

21. Public comment

22. Consider and act on other business

23. Consider and act on whether to authorize an executive session of the Board to address items listed below, under Closed Session

Closed Session

24. Approval of minutes of the Board's Closed Session meeting of October 6, 2015

25. Briefing by Management

26. Briefing by Inspector General

27. Consider and act on General Counsel's report on potential and pending litigation Involving LSC

28. Consider and act on list of prospective funders

29. Consider and act on motion to adjourn meeting

CONTACT PERSON FOR INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: January 21, 2016.
Katherine Ward,
Executive Assistant to the Vice President for Legal Affairs, General Counsel & Corporate Secretary.

[FR Doc. 2016-01515 Filed 1-22-16; 11:15 am]

BILLING CODE 7050-01-P